INTERNATIONAL TRADE COMMISSION

[Investigation No. 731-TA-718 (Second Review)]

Glycine From China

Determination

On the basis of the record ¹ developed in the subject five-year review, the United States International Trade Commission (Commission) determines, pursuant to section 751(c) of the Tariff Act of 1930 (19 U.S.C. 1675(c)) (the Act), that revocation of the antidumping duty order on glycine from China would be likely to lead to continuation or recurrence of material injury to an industry in the United States within a reasonably foreseeable time.

¹ The record is defined in sec. 207.2(f) of the Commission’s Rules of Practice and Procedure (19 CFR 207.2(f)).

Background

The Commission instituted this review on June 1, 2005 (70 FR 31534) and determined on September 7, 2005 that it would conduct an expedited review (70 FR 55625, September 22, 2005).

The Commission transmitted its determination in this review to the Secretary of Commerce on October 31, 2005. The views of the Commission are contained in USITC Publication 3810 (October 2005), entitled Glycine from China: Investigation No. 731-TA-718 (Second Review).

By order of the Commission.
Issued: October 31, 2005.
Marilyn R. Abbott,
Secretary to the Commission.

[FR Doc. 05-21951 Filed 11-2-05; 8:45 am]

BILLING CODE 7020-02-P